GENERAL SERVICES ADMINISTRATION

[GSA Bulletin FMR B-3]

Motor Vehicle Management

This notice contains GSA Bulletin FMR B-3 which addresses the use of tobacco products in motor vehicles owned or leased by the Federal Government. The text of the bulletin follows:

To: Heads of Federal Agencies.

Subject: Use of Tobacco Products in Motor Vehicles Owned or Leased by the Federal Government.

1. What is the purpose of this bulletin? This bulletin provides guidance to Executive agencies concerning the use of tobacco products in motor vehicles owned or leased by the Federal government. Other Federal agencies are also encouraged to consider this guidance.

2. What is the effective date of this bulletin? This bulletin is effective April 15, 2002.

3. When does this bulletin expire? This bulletin will remain in effect until specifically cancelled.

4. What is the background?

a. In 1993, the General Services Administration (GSA) Fleet Program prohibited the use of tobacco products in GSA Fleet vehicles because of the potential health hazards associated with the use of these products and the negative residual effects of tobacco use on GSA Fleet vehicles.

b. The Federal Fleet Policy Council (FEDFLEET) comprised of national level Federal agency fleet managers requested GSA's Office of Governmentwide Policy, Federal Vehicle Policy Division (MTV) to develop a recommendation regarding the use of tobacco products in motor vehicles owned or leased by the Federal government. Many agencies already prohibit the use of tobacco products in their vehicles; therefore, FEDFLEET recommended a policy that would apply to the entire Federal fleet.

5. What is the recommended policy we are encouraged to follow when issuing guidance on the use of tobacco products in motor vehicles owned or leased by the Federal government? Agencies are encouraged to:

a. Prohibit the use of tobacco products in motor vehicles owned or leased by the Agency.

b. Begin discussions with employee unions and organizations if required by union agreements to prohibit the use of tobacco products in such motor vehicles.

c. Develop appropriate policy regarding disciplinary action to be taken against employees violating this prohibition.

6. Who should we contact for further information and/or to direct comments regarding the issue of prohibiting the use of tobacco products in motor vehicles owned or leased by the Federal government?

General Services Administration, Office of Governmentwide Policy, Federal Vehicle Policy Division (MTV), Washington, DC 20405, Telephone Number: 202-501-1777, E-mail Address: vehicle.policy@gsa.gov.

Dated: April 8, 2002.
G. Martin Wagner,
Associate Administrator, Office of Governmentwide Policy.

[FR Doc. 02-9003 Filed 4-12-02; 8:45 am]

BILLING CODE 6820-14-M